DEPARTMENT OF HEALTH AND HUMAN SERVICES (DHHS)

National Institutes of Health

Proposed Collection; Comment Request; NDAR Data Access Request

SUMMARY: In compliance with the requirement of Section 3506(c)(2)(A) of the Paperwork Reduction Act of 1995, for opportunity for public comment on proposed data collection projects, the National Institute of Mental Health (NIMH), the National Institutes of Health (NIH) will publish periodic summaries of proposed projects to be submitted to the Office of Management and Budget (OMB) for review and approval.

Proposed Collection

Title: National Database for Autism Research (NDAR) Data Access Request.

Type of Information Collection Request: New.

Need and Use of Information Collection: The NDAR Data Access Request form is necessary for “Recipient” Principal Investigators and their organization or corporations with approved assurance from the DHHS Office of Human Research Protections to access data or images from the NDAR Central Repository for research purposes. The primary use of this information is to document, track, monitor, and evaluate the use of the NDAR datasets, as well as to notify interested recipients of updates, corrections, or other changes to the database.

Frequency of Response: Once per request.

Affected Public: Individuals.

Type of Respondents: Researchers interested in obtaining access to study data and images from the NDAR Central Repository for research purposes.

The annual reporting burden is as follows:

Estimated Number of Respondents: approximately 40.

Estimated Number of Responses per Respondent: Once per request.

Average Burden Hours per Response: 1.35.

Estimated Total Annual Burden Hours Requested: 63.

There are two scenarios for completing the form. The first where the Principal Investigator (PI) completes the entire NDAR Data Access Request form, and the second where the PI has the Research Assistant begin filling out the form and PI provides the final reviews and signs it. The estimated annual burden hours to complete the data request form is listed below.

Estimates Annual Burden Hours
Form | Number of respondents | Frequency of response | Average time per response (in hours) | Annual hour burden
NDAR Data Access Request | 40 | 1 | 95/60 | 63
Total |  |  |  | 63

Request For Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Keisha Shropshire, NIMH Project Clearance Liaison, Science Policy and Evaluation Branch, OSPPC, NIMH, NIH, Neuroscience Center, 6001 Executive Boulevard, MSC 9667, Rockville Pike, Bethesda, MD 20892, or call 301-443-4335 or Email your request, including your address.

Comments Due Date: Comments regarding this information collection are best assured of having their full effect if received within 60 days of the date of this publication.

Dated: June 15, 2012.
Keisha Shropshire,
NIMH Project Clearance Liaison, National Institute of Mental Health, National Institutes of Health.

[FR Doc. 2012-15334 Filed 6-21-12; 8:45 am]

BILLING CODE 4140-01-P